DEPARTMENT OF HEALTH AND HUMAN SERVICES

Centers for Disease Control and Prevention

[CDC-2015-0021; Docket Number NIOSH-153-C]

Final Guidance Publications for Skin Notation Profiles

AGENCY: National Institute for Occupational Safety and Health (NIOSH) of the Centers for Disease Control and Prevention (CDC), Department of Health and Human Services (HHS).

ACTION: Notice of availability.

SUMMARY: The National Institute for Occupational Safety and Health (NIOSH) of the Centers for Disease Control and Prevention (CDC), announces the availability of the following 5 Skin Notation Profiles [DHHS (NIOSH) Publication No. 2019-117 to 2019-121]:

Substance(s)

Atrazine [CAS No. 1912-24-9]

Catechol [CAS No. 120-80-9]

Chlorinated Camphene [CAS No. 8001-35-2]

Pentachlorophenol (PCP) [CAS No. 87-86-5]

Sodium Fluoroacetate [CAS No. 62-74-8]

DATES: The final documents were published on January 11, 2019 on the CDC website.

ADDRESSES: The documents may be obtained at the following link: https://www.cdc.gov/niosh/topics/skin/skin-notation_profiles.html.

FOR FURTHER INFORMATION CONTACT: Naomi Hudson, Dr.P.H, (iuz8@cdc.gov), Robert A. Taft Laboratories, 1090 Tusculum Avenue, MS-C32, Cincinnati, OH 45226. Telephone: (513) 533-8388 (not a toll free number).

SUPPLEMENTARY INFORMATION: On May 1, 2015, NIOSH published a request for public review in the Federal Register [80 FR 24932] of 19 draft skin notation profiles. All comments received were reviewed and addressed where appropriate.

John J. Howard,
Director, National Institute for Occupational Safety and Health, Centers for Disease Control and Prevention.

[FR Doc. 2019-01047 Filed 2-4-19; 8:45 am]

BILLING CODE 4163-19-P